DEPARTMENT OF TRANSPORTATION

Federal Highway Administration

[Docket No. FHWA-2006-25848]

Agency Information Collection Activities: Request for Comments for New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by November 20, 2006.

ADDRESSES: You may submit comments identified by DOT DMS Docket Number FHWA-2006-25848 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room 401 on the plaza level of the Nassif Building, 400 Seventh Street, SW., Washington, DC, between 9 a.m. and 5 p.m., Monday through Friday, except Federal holidays.

FOR FURTHER INFORMATION CONTACT: For questions concerning the Mechanistic Empirical Pavement Design National Status Survey, please contact Gary Crawford, Office of Pavement Technology, HIPT-1, (202) 366-1286, Department of Transportation, 400 Seventh Street, SW., Washington, DC 20590. Office hours are from 7:45 a.m. to 4:15 p.m., Monday through Friday, except Federal holidays.

SUPPLEMENTARY INFORMATION: Title: Mechanistic Empirical Pavement Design National Status Survey.

Background

In June 2004, the National Cooperative Highway Research Program (NCHRP) released the Mechanistic Empirical Pavement Design Guide (MEPDG) for New and Rehabilitated Pavement Structures. The Federal Highway Administration (FHWA) organized a Design Guide Implementation Team (DGIT) to immediately begin the process of informing, educating, and assisting the FHWA field offices, State Highway Agencies (DOTs), Industry, and others about the new design guide. The FHWA considers implementation of mechanistic empirical pavement design a critical element in improving the National Highway System. It ties directly into objectives listed in The Safe, Accountable, Flexible, Efficient Transportation Equity Act: A Legacy for Users (SAFETEA-LU) section 1503, which supports longer life pavements through design-build efforts. The impacts of long-life pavements include congestion mitigation and improved work zone safety. The MEPDG represents a significant advancement in pavement design and includes the best available engineering theory and mechanistic principles to determine the structural response and predict performance over the lifetime of a pavement structure. The mechanistic theory is balanced with over 525 empirical observations from the Long Term Pavement Performance database that represents a wide range of both material and climatic conditions. The use of both the mechanistic theory and a wide range of empirical observations make the MEPDG a robust design procedure. The MEPDG can be considered a 40-year step forward in pavement design. The MEPDG is a more theoretical and mathematical based procedure, strongly bolstered by fundamental engineering principles and is readily useful to academia, researchers, and practitioners of pavement analysis and design. The MEPDG provides significant potential benefits over the current AASHTO Guide in achieving cost-effective pavement designs and rehabilitation strategies. Most importantly, its user-oriented computational software implements an integrated analysis approach for predicting pavement condition over time. This analysis considers the complex interaction between traffic loadings, climatic conditions, materials and pavement structure. Implementation of the MEPDG will require a significant amount of time, resources, and funding. However, the adoption of the guide has the potential for providing a substantial long term savings based on the sheer magnitude of annual expenditures for highway pavements. In 2003, over 79 billion dollars was used for highway purposes; based on data published in Highway Statistics 2003 from the FHWA Office of Highway Policy Information. Any improvement in the designs will have a significant implication in reducing costs to maintain these pavements and more than offset the resources required to implement the new pavement design guide.

The DGIT has put forth a strategic plan of action to aid the transportation community in deploying this new technology. The DGIT is an integral part of an extensive outreach campaign including enhancement, education, and implementation strategies to promote the MEPDG. These activities include onsite and web-based workshops that have already educated more than 1,200 engineers across the U.S. in 21 States and around the globe in Canada, Europe, China, India, Mexico, and Central and South America. The FHWA encourages States to evaluate the utility that the Mechanistic Empirical Pavement Design Guide offers and to carefully implement the guidelines and recommendations. The long-term goal of the AASHTO Joint Technical Committee on Pavements is to adopt the guide as an AASHTOWare product to replace the AASHTO 1993 design guide. Moving towards a mechanistic empirical design process represents a huge paradigm shift for the majority of States and will require a significant amount of education, training, new equipment, new testing requirements, and data collection. Most importantly it will require better communication and coordination between the designers, materials engineers, traffic engineers, and consultants to collect and maintain the data needed to optimize the pavement designs and continue to validate and calibrate the models in the Guide. The DGIT is focused on being a leader in this effort, providing education, enhancement, and implementation activities to the transportation community.

Guidelines and Administration

This Survey will be a continuation of a previous informal assessment of State Practices in MEPDG Pavement Design that was undertaken in 2004 by the AASHTO Lead States Group and will provide a benchmark for future surveys to which later responses may be assessed. The information will serve as a baseline measurement on the national activities related to Mechanistic Pavement Design Procedures. The information will be used by FHWA to develop a national program to aid State DOTs in the implementation efforts and to guide research efforts. The information has been requested by the AASHTO Lead States Group in order to be better able to address areas of need. The information will be used in order to disseminate information and to avoid the duplication of implementation efforts. The information will also be helpful to the AASHTO through the process of assessing the procedure as an official national pavement design procedure. Information concerning national activities in MEPDG will be very useful in aiding this governing body in the balloting process. The information will aid in guiding the direction of research and implementation efforts by both the FHWA and State DOTs. The results of the survey will be disseminated by the FHWA and the Lead States Group to interested parties throughout the Nation. Stakeholders in the MEPDG will be able to assess the adequacy of the implementation efforts over time. This information will be collected under a contract through the Office of Pavement Technology. The survey will be administered through electronic media in order to reduce the burden of the responders.

Information Proposed for Collection

The information collected will asses the current state of pavement design and capture current activities associated with the implementation of mechanistic design procedures throughout the Nation. This information can be categorized into four major areas.

1. Implementation Plan for Mechanistic Empirical Pavement Design.This information includes current status of pavement design and implementation strategies included in the State DOT activities. This includes information about the major areas of materials characterization and traffic collection.

2. Calibration Plan for Mechanistic Empirical Pavement Design.This information details the SHA activities associated with calibration of the mechanistic pavement design procedure. Calibration activities at the State and regional level are of particular interest for guiding research activities and avoiding duplication of efforts.

3. Mechanistic Empirical Pavement Design: Methodology and Partnering.This information includes the intended use of the mechanistic pavement design procedure for other applications and the possible use by other transportation agencies in a State. The mechanistic pavement design procedure has the potential to be used in coordination with innovative contracting techniques and other pavement analysis and materials acceptance programs.

4. Mechanistic Empirical Pavement Design: Training and Communication.This is information outlining the training activities anticipated or already conducted in relation to the mechanistic pavement design procedure. The information also includes anticipated costs associated with implementation activities.

Burden Hours for Information Collection

Frequency: Bi-Annual.

Respondents: The Pavement Design Engineer in each State DOT, Puerto Rico, and the District of Columbia; for a total of 52.

Estimated Average Burden per response: Assuming 1 respondent per State plus Puerto Rico and the District of Columbia and 1 hr to respond to the survey, the total will be approximately 52 burden hours. FHWA is seeking a 3-year approval and plan on conducting the survey in the first and third year of the approval time period. The estimated annual burden is 35 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: September 15, 2006.
James R. Kabel,
Chief, Management Programs and Analysis Division.

[FR Doc. 06-7931 Filed 9-20-06; 8:45 am]

BILLING CODE 4910-22-P